DEPARTMENT OF TRANSPORTATION

Research and Special Programs Administration

49 CFR Parts 107, 171, 172, 173, 177, 178, and 180

[Docket No. RSPA-98-3684 (HM-220)]

RIN 2137-AA92

Hazardous Materials: Requirements for DOT Specification Cylinders; Withdrawal of Published Proposals and Termination of Rulemaking

AGENCY: Research and Special Programs Administration (RSPA), DOT.

ACTION: Proposed rulemaking; withdrawal of published proposals and termination of rulemaking.

SUMMARY: On October 30, 1998, RSPA published a notice of proposed rulemaking (NPRM) to amend certain requirements in the Hazardous Materials Regulations that apply to the maintenance, requalification, repair, and use of DOT specification cylinders. In addition, RSPA proposed to establish four new metric-marked cylinder specifications and to discontinue authorization for the manufacture of cylinders to certain current DOT specifications. For administrative purposes, RSPA is terminating action under this docket. Proposals in the NPRM related to establishing new metric-marked cylinder specifications and discontinuing current DOT specification cylinders are withdrawn. Proposals in the NPRM related to maintenance, requalification, repair, and use of DOT specification cylinders will be addressed in a final rule to be issued under a new docket number.

FOR FURTHER INFORMATION CONTACT: Susan Gorsky, telephone number (202-366-8553) Office of Hazardous Materials Standards, or Cheryl Freeman, telephone number (202) 366-4545, Office of Hazardous Materials Technology, Research and Special Programs Administration, U.S. Department of Transportation, Washington, DC 20590-0001.

SUPPLEMENTARY INFORMATION:

I. Background

On October 30, 1998, the Research and Special Programs Administration (RSPA, we) published a notice of proposed rulemaking (NPRM) under Docket HM-220 (63 FR 58460). In the NPRM, we proposed to amend the Hazardous Materials Regulations (HMR; 49 CFR parts 171-180) to: (1) Establish four new DOT cylinder specifications that would replace 12 current cylinder specifications; (2) revise the requirements for maintenance, requalification, repair and use of all DOT specification cylinders; and (3) discontinue the manufacture of certain specification cylinders. We took this action because we have not updated many of the current cylinder specifications since their adoption in the regulations prior to the 1950s. The proposed changes were intended to enhance operational controls and transportation safety by incorporating into the HMR new manufacturing and testing technologies and clarifying existing regulatory requirements. In addition, the proposed changes addressed three National Transportation Safety Board (NTSB) recommendations for improving the safety of cylinders in transportation. Finally, the proposed changes eased the burden on the regulated industry by incorporating the provisions of more than 30 exemptions into the HMR.

More than 140 commenters submitted over 200 written comments in response to the NPRM, including representatives of cylinder manufacturers, cylinder parts and equipment manufacturers, requalifiers, refillers, gas producers, distributors, shippers, carriers, users, emergency responders, industry trade associations, federal and state governmental agencies, private consultants, and private citizens. In addition, we held a series of public meetings to provide technical information on the proposals and to obtain clarification of certain industry comments.

A listing of the more significant proposals appears in the NPRM on page 58461 of the 1998 Federal Register notice. Readers should refer to the NPRM for detailed background discussions.

II. Proposals To Be Withdrawn

Many commenters were supportive of RSPA's efforts to address the issues raised in the NPRM. However, most commenters opposed the proposals to establish four new metric-marked cylinder specifications, discontinue authorization for the manufacture of certain specification cylinders, and require the use of ultrasonic examination for cylinder requalification. For the reasons outlined below, these proposals are withdrawn.

A. Proposal to establish four new metric-marked cylinder specifications—Withdrawn

The 1998 HM-220 NPRM proposed to establish four new cylinder specifications. The NPRM identified the proposed new seamless cylinder specifications as DOT 3M, 3ALM, and 3FM and the welded cylinder specification as DOT 4M. The proposed specifications are more performance-oriented than the current DOT cylinder specifications, and incorporate technological innovations and practices. The NPRM proposed to identify the new specification cylinders with a unique specification marking that closely approximates the markings in draft standards developed by the International Standards Organization (ISO) and the European Committee for Standardization. The new specification marking proposal required cylinders to be marked in metric units, and with a test pressure in place of the currently-required service pressure. In addition, all cylinders manufactured or rebuilt to the new DOT metric-marked cylinder specifications were subject to independent inspection.

Most commenters opposed the proposed new cylinder specifications. In particular, commenters objected to adoption of specifications based on draft ISO documents. These commenters were concerned that the ISO drafts could be changed and that cylinders manufactured to the draft standards may not be accepted for transportation in the world market. Commenters requested that we delay consideration of the proposed metric-marked cylinder specifications until the ISO finalizes its work on the international cylinder standards, and the United Nations (UN) Committee of Experts on the Transport of Dangerous Goods incorporates the ISO standards into the UN Recommendations on the Transport of Dangerous Goods (UN Model Regulations).

Based on the merits of the comments received, we agree the proposed metric-marked cylinder standards and related proposals that were based on the draft ISO standard should not be adopted. We worked closely with the UN Committee of Experts as it developed an international cylinder standard based on the ISO requirements referenced above. The new international standard was adopted as part of the UN Model Regulations in December 2000. We will address issues related to the harmonization of the U.S. cylinder regulations with the UN Model Regulations in a future rulemaking.

B. Proposal to discontinue authorization for the manufacture of cylinders to certain current DOT specifications—Withdrawn

The 1998 HM-220 NPRM proposed a phased-out termination of the manufacture of cylinders made to DOT specifications 3A, 3AA, 3AX, 3AAX, 3AL, 3B, 3T, 3BN, 4B, 4BA, 4BW, 4B240ET, and 4E; and a transition period of five years from the effective date of the final rule for the continued construction of them. Under the NPRM, all existing cylinders made to these specifications were authorized for continued use, provided they conform to the requalification standards. Numerous commenters objected to the proposal to phase-out the manufacture of these cylinders. They stated that cylinders made to these specifications have a proven safety record, and that we provided no data to support discontinuing their manufacture. We agree and are withdrawing the proposal.

In conjunction with our withdrawal of the proposal to establish four new metric-marked cylinder specifications for seamless and welded cylinders, we also are withdrawing the proposal to prohibit new construction of certain DOT specification cylinders after five years. Thus, continued manufacture of cylinders made to DOT specifications 3A, 3AA, 3AX, 3AAX, 3AL, 3B, 3T, 3BN, 4B, 4BA, 4BW, 4B240ET, and 4E is authorized.

C. Proposal to require ultrasonic examination for the requalification of certain cylinders—Withdrawn

The 1998 HM-220 NPRM proposed to require metric-marked cylinders to be requalified using ultrasonic examination, and to permit ultrasonic examination as an alternative requalification method for current DOT specification cylinders. Several commenters supported the use of alternative requalification test methods, such as ultrasonic examination and acoustic emission. These commenters state that these methods may be more effective than a pressure test, especially for cylinders where contamination is an issue. One commenter noted that its use of ultrasonic examination has resulted in substantial cost savings. However, most commenters strongly objected to the proposal to requalify cylinders by ultrasonic examination. These commenters were concerned about the potentially high cost of new ultrasonic examination equipment and stated that ultrasonic examination is not as effective as a pressure test in detecting flaws in cylinders with flat bottoms or hemispherical ends. These commenters also suggested we develop more specific guidelines for cylinder requalifiers on the use of ultrasonic examination.

In consideration of the comments received, both pro and con, we are withdrawing the proposal to authorize the use of ultrasonic examination as an alternative requalification method under general provisions in the regulations. We will continue to allow the use of ultrasonic examination to requalify cylinders under the exemption program. We may re-examine this issue in a future rulemaking.

III. Separation of Published Proposals and Termination of Rulemaking

A number of the proposals in the 1998 NPRM issued under Docket HM-220 addressed maintenance, requalification, repair, and use of current DOT specification cylinders. Commenters generally supported these proposals. However, a substantial portion of the 1998 HM-220 NPRM relates to the proposed manufacture, requalification, and use of metric-marked cylinders. Therefore, we are separating the proposals applicable to current DOT specification cylinders, including proposals related to the three NTSB recommendations, from those applicable to metric-marked cylinders. We plan to issue a final rule to address the proposals applicable to current DOT specification cylinders under a new Docket, HM-220D, identified as Docket No. RSPA-O1-10373, RIN 2137-AD58. Further action under this Docket No. RSPA-98-3684, HM-220, RIN 2137-AA92, is hereby terminated.

Issued in Washington, DC on February 7, 2002, under authority delegated in 49 CFR part 106.
Robert A. McGuire,
Associate Administrator for Hazardous Materials Safety, Research and Special Programs Administration.

[FR Doc. 02-3461 Filed 2-12-02; 8:45 am]

BILLING CODE 4910-60-P